DEPARTMENT OF DEFENSE

Office of the Secretary

Inventory of Contracts for Services

AGENCY: Defense Finance Accounting Service, DoD.

ACTION: Notice of availability.

SUMMARY: In accordance with section 2330a of title 10 United States Code as amended by the National Defense Authorization Act for Fiscal Year 2008 section 807, the Director, Defense Finance and Accounting Service (DFAS), in coordination with the Office of the Director, Defense Procurement, Acquisition Policy, and Strategic Sourcing (DPAP/SS) has published its Inventory of Contracts for Services.

The inventory was published on the DFAS Web site at the following location: http://www.dfas.mil/about/BusinessOpportunities.html.

DATES: The inventory is currently available.

FOR FURTHER INFORMATION CONTACT: Katie Gambill, (317) 510-3829 or e-mail at Katie.Gambill@DFAS.mil.

SUPPLEMENTARY INFORMATION: DFAS developed the inventory by pulling data from the Federal Procurement Data System—Next Generation. The inventory does not include contract numbers, contractor identification or other proprietary or sensitive information as this data can be used to disclose a contractor's proprietary proposal information.

Dated: October 14, 2009.
Patricia L. Toppings,
OSD Federal Register Liaison Officer, Department of Defense.

[FR Doc. E9-25696 Filed 10-23-09; 8:45 am]

BILLING CODE 5001-06-P